DEPARTMENT OF COMMERCE

Submission for OMB Review; Comment Request

The Department of Commerce (DOC) has submitted to the Office of Management and Budget (OMB) for clearance the following proposal for collection of information under the provisions of the Paperwork Reduction Act (44 U.S.C. Chapter 35).

Agency: Bureau of Economic Analysis.

Title: Survey of Foreign Ocean Carriers' Expenses in the United States.

Form Number(s): BE-29.

Agency Approval Number: 0608-0012.

Type of Request: Extension of a currently approved collection.

Burden: 624 hours.

Number of Respondents: 156 annually.

Average Hours Per Response: 4 hours.

Needs and Uses: The Bureau of Economic Analysis (BEA) is responsible for the compilation of the U.S. international transactions accounts (ITA), which it publishes quarterly in news releases, on its web site, and in its monthly journal, the Survey of Current Business. These accounts provide a statistical summary of all U.S. international transactions and, as such, are one of the major statistical products of BEA. They are used extensively by both government and private organizations for national and international economic policy formulation and for analytical purposes. The information collected in this survey is used to develop the “transportation” portion of the ITA. Without this information, an integral component of the ITA would be omitted. No other Government agency collects comprehensive annual data on foreign ocean carriers' expenses in the United States.

The survey requests information from U.S. agents of foreign ocean carriers operating in the United States. The information is collected on an annual basis from U.S. agents that handle 40 or more port calls in the reporting period by foreign ocean vessels, and covered expenses for all foreign ocean vessels handled by the U.S. agent were $250,000 or more. A report is not required if the total number of port calls by foreign ocean vessels handled by the U.S. agent in the reporting period is fewer than 40, or total annual covered expenses for all foreign ocean vessels handled by the U.S. agent are below $250,000.

Affected Public: U.S. agents of foreign ocean carriers.

Frequency: Annually.

Respondent's Obligation: Mandatory.

Legal Authority: The International Investment and Trade in Services Survey Act, 22 U.S.C. 3101-3108, as amended.

OMB Desk Officer: Paul Bugg, (202) 395-3093.

You may obtain copies of the above information collection proposal by writing Diane Hynek, Departmental Paperwork Clearance Officer, Officer of the Chief Information Officer, Department of Commerce, Room 6625, 14th and Constitution Avenue, NW., Washington, DC 20230, or via e-mail at dhynek@doc.gov.

Send written comments on the proposed information collection within 30 days of publication of this notice to the Office of Management and Budget, O.I.R.A., Attention PRA Desk Officer for BEA, via e-mail at pbugg@omb.eop.gov, or by fax at 202-395-7245.

Dated: July 20, 2006.
Madeleine Clayton,
Management Analyst, Office of Chief Information Officer.

[FR Doc. E6-11813 Filed 7-24-06; 8:45 am]

BILLING CODE 3510-06-P